DEPARTMENT OF JUSTICE

Antitrust Division

Notice Pursuant to the National Cooperative Research and Production Act of 1993—Advanced Fluids for Electrified Vehicles

Notice is hereby given that, on November 30, 2022, pursuant to section 6(a) of the National Cooperative Research and Production Act of 1993, 15 U.S.C. 4301 et seq. (“the Act”), Advanced Fluids for Electrified Vehicles (“AFEV”) has filed written notifications simultaneously with the Attorney General and the Federal Trade Commission disclosing changes in its membership. The notifications were filed for the purpose of extending the Act's provisions limiting the recovery of antitrust plaintiffs to actual damages under specified circumstances. Specifically, Daimler Truck North America, Portland, OR; and The Lubrizol Corporation, Wickliffe, OH, have been added as parties to this venture.

No other changes have been made in either the membership or planned activity of the group research project. Membership in this group research project remains open, and AFEV intends to file additional written notifications disclosing all changes in membership.

On June 16, 2021, AFEV filed its original notification pursuant to section 6(a) of the Act. The Department of Justice published a notice in the Federal Register pursuant to section 6(b) of the Act on August 16, 2021 (86 FR 45751).

The last notification was filed with the Department on September 21, 2022. A notice was published in the Federal Register pursuant to section 6(b) of the Act on November 7, 2022 (87 FR 67069).

Suzanne Morris,
Deputy Director of Civil Enforcement Operations, Antitrust Division.

[FR Doc. 2023-01352 Filed 1-23-23; 8:45 am]

BILLING CODE P